FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License no. | Name/address | Date reissued
013787N | Trans Caribe Express Shippers, Inc., 163 Tremont Avenue, East Orange, NJ 07018 | April 29, 2010.
015941NF | Cargo Plus, Inc., 8333 Wessex Drive, Pennsauken, NJ 08109 | April 25, 2010.
021975F | Adora International LLC dba Adora, 16813 FM 1485, Conroe, TX 77306 | April 20, 2010.

Sandra L. Kusumoto,
Director, Bureau of Certification and Licensing.

[FR Doc. 2010-13416 Filed 6-2-10; 8:45 am]

BILLING CODE 6730-01-P